DEPARTMENT OF JUSTICE

Notice of Lodging of Consent Decree Under the Comprehensive Environmental Response, Compensation, and Liability Act

Notice is hereby given that on October 31, 2007, a proposed Consent Decree in United States v. Hercules Incorporated, Civil Action No. 2:07cv87 was lodged with the United States District Court for the Northern District of West Virginia.

In this action the United States sought to recover costs incurred in responding to the release or threatened release of hazardous substances into the environment at or from the Allegany Ballistics Lab Site, a U.S. Navy-owned facility in Mineral County, West Virginia. The Consent Decree requires that Hercules Incorporated pay the United States $12.95 million. In exchange, Hercules will receive contribution protection and a release from liability for additional environmental cleanup costs or cleanup work, subject to certain exceptions and limitations.

The Department of Justice will receive comments relating to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. Hercules Incorporated, D.J. Ref. 90-11-3-07827.

The Consent Decree may be examined at: (1) The Office of the United States Attorney, 1125 Chapline Street, Suite 3000, Wheeling, West Virginia; (2) U.S. EPA Region 3, 1650 Arch Street, Philadelphia, Pennsylvania; (3) the ABL Information Repository at the Fort Ashby Public Library, IGA Plaza, Lincoln Street, Fort Ashby, West Virginia; or (4) the ABL Information Repository at the La Vale Public Library, 815 National Highway, La Vale, Maryland. During the public comment period, the Consent Decree, may also be examined on the following Department of Justice Web site, to http:/www.usdoj.gov/enrd/Consent_Decrees.html. A copy of the Consent Decree may also be obtained by mail from the Consent Decree Library, P.O. Box 7611, U.S. Department of Justice, Washington, DC 20041-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost) payable to the U.S. Treasury or, if by e-mail or fax, forward a check in that amount to the Consent Decree Library at the stated address.

Maureen Katz,
Assistant Chief, Environmental Enforcement Section, Environment and Natural Resources Division.

[FR Doc. 07-5694 Filed 11-15-07; 8:45 am]

BILLING CODE 4410-15-M